DEPARTMENT OF HEALTH AND HUMAN SERVICES

Centers for Disease Control and Prevention

[60Day-03-116]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer at (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: 2003 Connecticut Partners Project: Health Plan Member Survey on Smoking Cessation—New—National Center for Chronic Disease Prevention and Health Promotion (NCCDPHP), Centers for Disease Control and Prevention (CDC).

Tobacco use is a leading cause of death and disability in the United States. It is also a considerable expense for managed care organizations in the form of tobacco related disease. In Connecticut, the smoking prevalence is 22.8% and tobacco use results in $1,273,000,000 in excess health care expenditures or $389 per capita.

The Connecticut Partners Project will be developed by the Centers for Disease Control and Prevention (CDC), the American Association of Health Plans (AAHP), and four health plans in Connecticut. The four health plans are Anthem Blue Cross/Blue Shield, ConnectiCare, Health Net of the Northeast, Inc., and the Oxford Health Plan.

The objectives of the Project are as follows:

• Determine the feasibility of providing tobacco cessation counseling through case management programs within managed care.

• Assess the feasibility and costs of delivering cessation counseling in a local setting that allows evaluation.

• Determine whether counselor training through a standardized web based initiative impacts the quality of counseling.

• Evaluate the delivery and impact of the interventions as well as their cost.

The Project will provide an opportunity to assess the value and cost of providing tobacco cessation counseling through health plan case management strategies. At present there are only a handful of health plans that provide comprehensive tobacco control interventions. The proposed project will determine if there is a value to a smaller targeted approach with high-risk individuals. This could improve the reach of tobacco control efforts within managed care for a smaller, but important target population.

A major component of this project will be a survey of health plan members. The goal of the member survey will be to evaluate the success and relative effectiveness of the smoking cessation interventions implemented within each of the health plan's disease management programs. The survey will contain approximately 35 questions and will include questions that assess patients' smoking status, readiness to quit, knowledge of adverse health effects of smoking, and use of smoking cessation resources. The survey will be sent to members identified as smokers in the commercial population within the health plans' disease management programs. The survey will be conducted on approximately 300 participants per health plan, for a total of 1,200 participants.

An independent evaluation vendor will be hired to field the survey. To achieve the highest possible response rate, the survey will be implemented in a mixed mode design, using both a self-administered mail survey followed by a telephone interview of non-respondents. Aggregated data will be reported to CDC and the health plans participating in the study. In addition, the reported results will be blinded as to the plans, but each plan will have access to its own data. There is no cost to respondents.

Respondents | Number of respondents | Number of responses per respondent | Average burden per response (in hours) | Total burden (in hours)
Anthem | 300 | 1 | 20/60 | 100
ConnectiCare | 300 | 1 | 20/60 | 100
Health Net | 300 | 1 | 20/60 | 100
Oxford | 300 | 1 | 20/60 | 100
Total |  |  |  | 400

Dated: September 15, 2003.
Nancy E. Cheal,
Acting Associate Director for Policy, Planning and Evaluation, Centers for Disease Control and Prevention.

[FR Doc. 03-24076 Filed 9-18-03; 12:01 pm]

BILLING CODE 4163-18-P